NATIONAL AERONAUTICS AND SPACE ADMINISTRATION

[Notice (04-074)]

Notice of Prospective License

AGENCY: National Aeronautics and Space Administration.

ACTION: Notice of prospective license.

SUMMARY: NASA hereby gives notice that Bectrasys Corporation, of 10700 SW. 88 Street, Suite 300, Miami, Florida 33176, has applied for an exclusive copyright license to practice computer software entitled “Postdoc Software,” disclosed in NASA Case No. ARC-15008-1, which is assigned to the United States of America as represented by the Administrator of the National Aeronautics and Space Administration. Written objections to the prospective grant of a license should be sent to NASA Ames Research Center. NASA has not yet made a determination to grant the requested license and may deny the requested license even if no objections are submitted within the comment period.

DATES: Responses to this notice must be received by June 22, 2004.

FOR FURTHER INFORMATION CONTACT: NASA Ames Research Center, Attn: Robert M. Padilla, Chief Patent Counsel, Mail Stop 202A-4, Moffett Field, CA 94035-1000, (650) 604-0887.

Dated: May 27, 2004.
Keith T. Sefton,
Chief of Staff, Office of the General Counsel.

[FR Doc. 04-12721 Filed 6-4-04; 8:45 am]

BILLING CODE 7510-01-P